DEPARTMENT OF HEALTH AND HUMAN SERVICES

Agency for Toxic Substances and Disease Registry

[ATSDR-267]

Availability of Draft Toxicological Profiles

AGENCY: Agency for Toxic Substances and Disease Registry (ATSDR), Department of Health and Human Services (DHHS).

ACTION: Notice of availability.

SUMMARY: This notice announces the availability of the Toxicological Profile for Toxaphene (Update) and the Toxicological Profile for Trichlorobenzenes for review and comment. We are seeking public comments for review and potential inclusion in the profiles. These comments can include additional information or reports on studies about the health effects of toxaphene and trichlorobenzenes. ATSDR remains committed to providing a public comment period for these documents to best serve public health and our clients.

The Comprehensive Environmental Response, Compensation, and Liability Act of 1980 (CERCLA), as amended by the Superfund Amendments and Reauthorization Act of 1986 (SARA), section 104(i)(3), [42 U.S.C. 9604(i)(3)], directs the ATSDR administrator to prepare toxicological profiles of priority hazardous substances and, as necessary, to revise and publish each updated toxicological profile.

DATES: To be considered, comments on these draft toxicological profiles must be received not later than February 25, 2011. Comments received after the close of the public comment period will be considered at the discretion of ATSDR, based upon what is deemed to be in the best interest of the general public.

ADDRESSES: Requests for printed copies of the draft toxicological profiles should be sent via e-mail to cdcinfo@cdc.gov, or to Ms. Olga Dawkins, Division of Toxicology and Environmental Medicine, Agency for Toxic Substances and Disease Registry, Mailstop F-62, 1600 Clifton Road, NE., Atlanta, Georgia 30333. Electronic access to these documents is also available at: http://www.atsdr.cdc.gov/toxprofiles/index.asp.

Written comments and other data submitted in response to this notice and to the draft toxicological profiles should bear the docket control number ATSDR-XXX. Send one copy of all comments and three copies of all supporting documents to the attention of Ms. Nickolette Roney, Division of Toxicology and Environmental Medicine, Agency for Toxic Substances and Disease Registry, Mailstop F-62, 1600 Clifton Road, NE., Atlanta, Georgia 30333, by the end of the comment period. Electronic comments may be sent via e-mail to: tppubliccomments@cdc.gov. Please include toxaphene or trichlorobenzenes in the subject line of the e-mail. Because all public comments regarding ATSDR toxicological profiles are available for public inspection, no confidential business information or other confidential information should be submitted in response to this notice.

FOR FURTHER INFORMATION CONTACT: Ms. Olga Dawkins, Division of Toxicology and Environmental Medicine, Agency for Toxic Substances and Disease Registry, Mailstop F-62, 1600 Clifton Road, NE., Atlanta, Georgia 30333, telephone (770) 488-3315. Electronic access to this document is also available at: http://www.atsdr.cdc.gov/toxprofiles/index.asp.

Comments and other data submitted in response to this notice and the draft toxicological profiles should bear the docket control number ATSDR-267.

SUPPLEMENTARY INFORMATION: The Superfund Amendments and Reauthorization Act (SARA) (Pub. L. 99-499) amends the Comprehensive Environmental Response, Compensation, and Liability Act (CERCLA or Superfund) (42 U.S.C. 9601 et seq.) by establishing certain responsibilities for ATSDR and the U.S. Environmental Protection Agency (U.S. EPA) with regard to hazardous substances most commonly found at facilities on the CERCLA National Priorities List (NPL). As part of these responsibilities, the ATSDR administrator must prepare toxicological profiles for substances enumerated on the priority list of hazardous substances. This list identifies 275 hazardous substances that, according to ATSDR and U.S. EPA, pose the most significant potential threat to human health. The availability of the revised priority list of 275 hazardous substances was announced in the Federal Register on March 6, 2008 (73 FR 12178). In addition, ATSDR has the authority to prepare toxicological profiles for substances not found at sites on the NPL, in an effort to “* * * establish and maintain inventory of literature, research, and studies on the health effects of toxic substances” under CERCLA Section 104(i)(1)(B), to respond to requests for consultation under CERCLA Section 104(i)(4), and as otherwise necessary to support the site-specific response actions conducted by ATSDR.

Each profile will include an examination, a summary, and an interpretation of available toxicological information and epidemiological evaluations. This information and these data identify the levels of significant human exposure for the substances and for the associated health effects. The profiles must also include a determination of whether adequate information on the health effects of each substance is available or is being developed. If adequate information is not available, ATSDR, in cooperation with the National Toxicology Program (NTP), is required to ensure the initiation of research to determine such health effects.

Although ATSDR considered key studies for each of the substances during the profile development process, this Federal Register notice solicits any relevant, additional studies, particularly unpublished data and ongoing studies. ATSDR will evaluate such data or studies for possible addition to the profiles, now or in the future. All toxicological profiles issued as “Drafts for Public Comment” represent ATSDR's best efforts to provide crucial toxicological information on priority hazardous substances.

The draft toxicological profiles will be made available to the public on or about October 17, 2010.

Hazardous substances | CAS No.
Toxaphene | 8001-35-2
Trichlorobenzenes *
1,2,3 Trichlorobenzene | 87-61-6
1,2,4 Trichlorobenzene | 120-82-1
1,3,5 Trichlorobenzene | 108-70-3
Trichlorobenzene | 12002-48-1
* Denotes new profile.

Dated: November 17, 2010.
Ken Rose,
Director, Office of Policy, Planning and Evaluation, National Center for Environmental Health/Agency for Toxic Substances and Disease Registry.

[FR Doc. 2010-29332 Filed 11-19-10; 8:45 am]

BILLING CODE 4163-70-P